SECURITIES AND EXCHANGE COMMISSION

[Release No. 34-65477; File No. SR-FINRA-2011-028]

Self-Regulatory Organizations; Financial Industry Regulatory Authority, Inc.; Notice of Withdrawal of Proposed Rule Change To Adopt Rules Regarding Supervision in the Consolidated FINRA Rulebook

October 4, 2011.

On June 10, 2011, Financial Industry Regulatory Authority, Inc. (“FINRA”) filed with the Securities and Exchange Commission (“Commission”), pursuant to Section 19(b)(1) of the Securities Exchange Act of 1934 (“Exchange Act” or “Act”) ¹ and Rule 19b-4 thereunder,² a proposed rule change to adopt rules regarding supervision in the consolidated FINRA rulebook. The proposed rule change was published for comment in the Federal Register on June 29, 2011.³ The Commission received 12 comments on the proposal.⁴ On July 26, 2011, FINRA extended the time period in which the Commission must approve the proposed rule change, disapprove the proposed rule change, or institute proceedings to determine whether to approve or disapprove the proposed rule change, to September 27, 2011.

¹ 15 U.S.C. 78s(b)(1).

² 17 CFR 240.19b-4.

³ See Securities Exchange Act Release No. 64736 (June 26, 2011), 76 FR 38245 (June 29, 2011) (Notice of Filing of File No. SR-FINRA-2011-028) (“Notice”).

⁴ The comment period ended on July 20, 2011; all comments are posted on the Commission's Web site, http://www.sec.gov/rules/sro.shtml.

On September 27, 2011, FINRA withdrew the proposed rule change (SR-FINRA-2011-028).

For the Commission, by the Division of Trading and Markets, pursuant to delegated authority.⁵
⁵ 17 CFR 200.30-3(a)(12).
Elizabeth M. Murphy,
Secretary.

[FR Doc. 2011-26101 Filed 10-7-11; 8:45 am]

BILLING CODE 8011-01-P